DEPARTMENT OF COMMERCE

National Oceanic and Atmospheric Administration

[0648-XR034]

Endangered and Threatened Species; Take of Anadromous Fish

AGENCY: National Marine Fisheries Service (NMFS), National Oceanic and Atmospheric Administration (NOAA), Commerce.

ACTION: Notice; Determination on a Tribal Resource Management Plan.

SUMMARY: Notice is hereby given that NMFS has made a determination on the Nez Perce Tribe's Tribal Resource Management Plan (TRMP), pursuant to the protective regulations promulgated for Pacific salmon and steelhead under the Endangered Species Act (ESA). The TRMP specifies the implementation of fisheries targeting steelhead in the Snake River Basin.

FOR FURTHER INFORMATION CONTACT: Charlene Hurst, at phone number: (503) 230-5409, or via email: Charlene.n.hurst@noaa.gov.

SUPPLEMENTARY INFORMATION:

Species Covered in This Notice

Chinook salmon (Oncorhynchus tshawytscha): threatened, naturally produced and artificially propagated Snake River Spring/Summer and Snake River Fall.

Steelhead (O. mykiss): threatened, naturally produced and artificially propagated Snake River Basin.

Sockeye salmon (O. nerka): endangered, naturally produced and artificially propagated Snake River.

Background

The Nez Perce Tribe TRMP describes fisheries targeting adult steelhead within the Snake River Basin. This plan was submitted to NMFS in November of 2018 under the ESA Tribal 4(d) Rule, and describes timing, location, harvest impact limits, and gear. A variety of monitoring and evaluation is included in the TRMP. As required, NMFS took public comments on its recommended determination for how the plan addresses the criteria in § 223.203(b)(4) prior to making its final determination.

Discussion of the Biological Analysis Underlying the Determination

The TRMP defines maximum impact rates for natural-origin steelhead specific to each major population group within the Snake River Steelhead Distinct Population Segment. These maximum impact rates are part of a basin-wide framework with which all fishery managers have agreed to coordinate so that impacts do not exceed these maximums. Furthermore, if abundances fall below a major population group-specific Critical Abundance Threshold, management actions (e.g., time-area closures) will be taken to reduce impacts.

NMFS has analyzed the effects of the TRMP on ESA-listed salmon and steelhead species and has concluded that the TRMP would not appreciable reduce the likelihood of survival and recovery of ESA-listed species, while providing for the proposed tribal treaty harvest opportunities. Our determination depends upon implementation of all of the monitoring, evaluation, reporting tasks or assignments, and enforcement activities included in the TRMP. Reporting and inclusion of new information derived from research, monitoring, and evaluation activities described in the plan provide assurance that performance standards will be achieved in future seasons.

Summary of Comments Received in the Response to the Proposed Evaluation and Pending Determination

NMFS published notice of its Proposed Evaluation and Pending Determination (PEPD) on the plan for public review and comment on May 7, 2019 (84 FR 19904), as required by the Tribal 4(d) Rule. The PEPD was available for public review and comment for 30 days. No comments were received.

Authority: 16 U.S.C. 1531 1543; subpart B, §§ 223.201-202 also issued under 16 U.S.C. 1361 et seq.; 16 U.S.C. 5503(d) for § 223.206(d)(9).

Dated: August 20, 2019.
Cathryn E. Tortorici,
Chief, Endangered Species Act Interagency Cooperation Division, Office of Protected Resources, National Marine Fisheries Service.

[FR Doc. 2019-18264 Filed 8-23-19; 8:45 am]

BILLING CODE 3510-22-P